INTERNATIONAL TRADE COMMISSION

[Investigation No. TA-421-4]

Certain Ductile Iron Waterworks Fittings From China

Determination

On the basis of information developed in the critical circumstances phase of the subject investigation, the United States International Trade Commission determines, pursuant to section 421(i) of the Trade Act of 1974,¹ that critical circumstances do not exist with respect to imports of certain ductile iron waterworks fittings from China. Specifically, the Commission makes a negative determination under section 421(i)(1)(A) with respect to whether delay in taking action under this section would cause damage to the relevant domestic industry which would be difficult to repair.²

¹ 19 U.S.C. 2451(i).

² Commissioner Lane makes an affirmative determination under section 421(i)(1)(A), and therefore dissents. Commissioner Pearson did not participate in this determination.

Background

Following receipt of a petition filed on September 5, 2003, on behalf of McWane, Inc.,³ Birmingham, AL, the Commission instituted investigation No. TA-421-4, Certain Ductile Iron Waterworks Fittings from China, under section 421(b) of the Act to determine whether certain ductile iron waterworks fittings ⁴ from China are being imported into the United States in such increased quantities or under such conditions as to cause or threaten to cause market disruption to the domestic producers of like or directly competitive products. The petition also alleged under section 421(i) of the Act that critical circumstances exist with respect to the subject products and requested that provisional relief be provided.

Notice of the institution of the Commission's investigation and of the scheduling of a staff conference during the critical circumstances phase and a subsequent public hearing to be held in the investigation was given by posting copies of the notice in the Office of the Secretary, U.S. International Trade Commission, Washington, DC, and by publishing the notice in the Federal Register of September 15, 2003 (68 F.R. 54010). The staff conference in connection with the critical circumstances phase of the investigation was held on September 26, 2003 in Washington, DC; all persons who requested the opportunity were permitted to appear in person or by counsel.

The Commission transmitted its determination in the critical circumstances phase of this investigation to the President on October 20, 2003. The views of the Commission are contained in USITC Publication 3642 (October 2003), entitled Certain Ductile Iron Waterworks Fittings from China: Investigation No. TA-421-4 (Critical Circumstances Phase).

³ McWane operates three subsidiaries that produce the subject products including: Clow Water Systems Co., Coshocton, OH; Tyler Pipe Co., Tyler, TX; and Union Foundry Co., Anniston, AL.

⁴ The products subject to this investigation are cast pipe or tube fittings of ductile iron (containing 2.5 percent carbon and over 0.02 percent magnesium or magnesium and cerium, by weight) with mechanical, push-on (rubber compression) or flanged joints attached. Included within this definition are fittings of all nominal diameters and of both full-bodied and compact designs. The imported products are provided for in statistical reporting number 7307.19.3070 of the Harmonized Tariff Schedule of the United States (HTS).

Issued: October 20, 2003.
By order of the Commission.
Marilyn R. Abbott,
Secretary to the Commission.

[FR Doc. 03-26813 Filed 10-23-03; 8:45 am]

BILLING CODE 7020-02-P